DEPARTMENT OF HOMELAND SECURITY

U.S. Citizenship and Immigration Services

[OMB Control Number 1615-0157]

Agency Information Collection Activities; Revision of a Currently Approved Collection: Online Request To Be a Supporter and Declaration of Financial Support

AGENCY: U.S. Citizenship and Immigration Services, Department of Homeland Security.

ACTION: 60-Day notice.

SUMMARY: The Department of Homeland Security (DHS), U.S. Citizenship and Immigration Services (USCIS) invites the general public and other Federal agencies to comment upon this proposed revision of a currently approved collection of information. In accordance with the Paperwork Reduction Act (PRA) of 1995, the information collection notice is published in the Federal Register to obtain comments regarding the nature of the information collection, the categories of respondents, the estimated burden (i.e. the time, effort, and resources used by the respondents to respond), the estimated cost to the respondent, and the actual information collection instruments.

DATES: Comments are encouraged and will be accepted for 60 days until November 13, 2023.

ADDRESSES: All submissions received must include the OMB Control Number 1615-0157 in the body of the letter, the agency name and Docket ID USCIS-2023-0004. Submit comments via the Federal eRulemaking Portal website at https://www.regulations.gov under e-Docket ID number USCIS-2023-0004.

FOR FURTHER INFORMATION CONTACT: USCIS, Office of Policy and Strategy, Regulatory Coordination Division, Samantha Deshommes, Chief, telephone number (240) 721-3000 (This is not a toll-free number. Comments are not accepted via telephone message). Please note contact information provided here is solely for questions regarding this notice. It is not for individual case status inquiries. Applicants seeking information about the status of their individual cases can check Case Status Online, available at the USCIS website at https://www.uscis.gov, or call the USCIS Contact Center at 800-375-5283 (TTY 800-767-1833).

SUPPLEMENTARY INFORMATION:

Background

This notice seeks comment on the USCIS Form I-134A information collection package, which DHS uses in connection with certain parole processes. In January 2023, at DHS's request, the Office of Management and Budget approved this new collection in accordance with emergency procedures set forth at 5 CFR 1320.13. DHS uses this collection to implement processes through which nationals of certain countries and their immediate family members may request to come to the United States in a safe and orderly way. The collection is an outgrowth of USCIS Form I-134 (OMB Control Number 1615-0014), and has been used in connection with Uniting for Ukraine; a new parole process for certain Cubans,¹ Haitians,² and Nicaraguans,³ and Venezuelans; ⁴ new family reunification parole processes for certain Colombians,⁵ Salvadorans,⁶ Guatemalans,⁷ and Hondurans; ⁸ and procedural changes to the previously established Cuban ⁹ and Haitian ¹⁰ Family Reunification Parole processes. The emergency processing activities associated with implementing these processes were necessary for multiple reasons, including to address the urgent humanitarian events transpiring in Ukraine, to prevent complications for the United States' ongoing efforts to engage hemispheric partners to increase their efforts to collaboratively manage and reduce irregular migration that could have arisen without timely action by the United States, and to avoid incentivizing irregular migration during a public comment period.

¹ 88 FR 1266 (Jan. 9, 2023); see also 88 FR 26329 (Apr. 28, 2023).

² 88 FR 1243 (Jan. 9, 2023); see also 26 FR 327 (Apr. 28, 2023).

³ 88 FR 1255 (Jan. 9, 2023).

⁴ 87 FR 63507 (Oct. 19, 2022); see also 88 FR 1279 (Jan. 9, 2023).

⁵ 88 FR 43591 (July 10, 2023).

⁶ 88 FR 43611 (July 10, 2023).

⁷ 88 FR 43581 (July 10, 2023).

⁸ 88 FR 43601 (July 10, 2023).

⁹ 88 FR 54639 (Aug. 11, 2023).

¹⁰ 88 FR 54635 (Aug. 11, 2023).

Under these processes, certain beneficiaries who are outside the United States and lack U.S. entry documents may be considered, on a case-by-case basis, for advance authorization to travel and a temporary period of parole for urgent humanitarian reasons or significant public benefit. To participate, eligible beneficiaries must:

• Have a supporter in the United States;

• Undergo and clear robust security vetting;

• Meet other eligibility criteria; and

• Warrant a favorable exercise of discretion.

Individuals participating in these processes must have a supporter in the United States who agrees to provide them with financial support for the duration of their parole in the United States. Prospective supporters submit a Form I-134A for each proposed parolee (beneficiary), including, if applicable, derivatives of the principal beneficiary, with USCIS through the USCIS online web portal to initiate the special parole or parole under the family reunification process. Form I-134A identifies and collects information on both the supporter and the beneficiary. The supporter must submit evidence establishing their income and assets and commit to provide financial support to the beneficiary for the duration of parole. A supporter filing under a family reunification parole process is also required to submit evidence establishing the family relationships between the principal beneficiary and all derivative beneficiaries. No fee is required to file Form I-134A. USCIS will perform background checks on the supporter and verify their financial information to ensure that the supporter is able to financially support the beneficiary. If the supporter's Form I-134A is confirmed, the beneficiary named in the Form I-134A will receive an email from USCIS with instructions to create a USCIS online account and next steps for completing the request. See Advance Travel Authorization (ATA) (OMB Control Number 1651-0143) for the approved collection of information for the next steps in affected parole processes.

Comments

You may access the information collection instrument with instructions or additional information by visiting the Federal eRulemaking Portal site at: https://www.regulations.gov and entering USCIS-2023-0004 in the search box. All submissions will be posted, without change, to the Federal eRulemaking Portal at https://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of https://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a Currently Approved Collection.

(2) Title of the Form/Collection: Online Request to be a Supporter and Declaration of Financial Support.

(3) Agency form number, if any, and the applicable component of the DHS sponsoring the collection: I-134A; USCIS.

(4) Affected public who will be asked or required to respond, as well as a brief abstract: Primary: Individuals or households. USCIS uses Form I-134A to determine whether a U.S.-based individual has sufficient financial resources and access to those funds to support the beneficiary named on the Form I-134A for the duration of their temporary stay in the United States, as well as to obtain information concerning whether the beneficiary merits a favorable exercise of discretion under the statutory parole standard.

Form I-134A is filed by a U.S.-based individual (the potential supporter) to request to be a supporter, agree to provide financial support to the beneficiary named on the form during the beneficiary's period of stay in the United States, and to provide information concerning why the beneficiary warrants a discretionary grant of parole.

(5) An estimate of the total number of respondents and the amount of time estimated for an average respondent to respond: The estimated total number of respondents for the information collection I-134A is 1,202,000, and the estimated hour burden per response is 2.11 hours.

(6) An estimate of the total public burden (in hours) associated with the collection: The total estimated annual hour burden associated with this collection is 2,536,220 hours.

(7) An estimate of the total public burden (in cost) associated with the collection: The estimated total annual cost burden associated with this collection of information is $0.00.

USCIS specifically requests comments on the agency's estimate of the number of respondents who will submit Form I-134A, on average, in a given 12-month period. USCIS has added to the burden estimate for this collection, to account for any potential expansion(s) that align with new or revised policies or processing capacity over the next three years. USCIS also notes that the number of requests to be a supporter that USCIS is currently receiving exceeds our initial estimates. Anecdotal evidence indicates that supporters are submitting multiple, duplicate requests for the same beneficiary. USCIS welcomes public input on why supporters are creating duplicate requests to inform our estimates.

Dated: September 7, 2023.
Samantha L. Deshommes,
Chief, Regulatory Coordination Division, Office of Policy and Strategy, U.S. Citizenship and Immigration Services, Department of Homeland Security.

[FR Doc. 2023-19648 Filed 9-11-23; 8:45 am]

BILLING CODE 9111-97-P